ENVIRONMENTAL PROTECTION AGENCY

[EPA-HQ-OAR-2004-0500; FRL-8178-8]

Agency Information Collection Activities; Submission to OMB for Review and Approval; Comment Request; ENERGY STAR Program in the Residential Sector, EPA ICR Number 2193.01

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before July 3, 2006.

ADDRESSES: Submit your comments, referencing docket ID number EPA-HQ-OAR-2004-0500, to (1) EPA online using http://www.regulations.gov (our preferred method), by e-mail to a-and-r-docket@epa.gov, or by mail to: EPA Docket Center (EPA/DC), Environmental Protection Agency, Mailcode: 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Brian Ng, Office of Air and Radiation, Mailcode 6202J, Environmental Protection Agency, 1200 Pennsylvania Avenue, NW., Washington, DC 20460; telephone number: (202) 343-9162; fax number: (202) 343-2200; e-mail address: ng.brian@epa.gov.

SUPPLEMENTARY INFORMATION: EPA has submitted the following ICR to OMB for review and approval according to the procedures prescribed in 5 CFR 1320.12. On August 11, 2005 (70 FR 46836), EPA sought comments on this ICR pursuant to 5 CFR 1320.8(d). EPA received no comments.

EPA has established a public docket for this ICR under Docket ID No. EPA-HQ-OAR-2004-0500, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available at http://www.regulations.gov. Use http://www.regulations.gov to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in http://www.regulations.gov as EPA receives them and without change, unless the comment contains copyrighted material, CBI, or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.regulations.gov.

Title: ENERGY STAR Program in the Residential Sector.

Abstract: The Environmental Protection Agency (EPA) introduced ENERGY STAR in 1992 to label energy efficient computers. Since then, EPA and the Department of Energy (DOE) have expanded the ENERGY STAR Program to promote energy efficiency in over 40 product categories and in commercial and residential buildings. Increased energy efficiency through ENERGY STAR provides cost savings to businesses and homeowners, reduces greenhouse gas emissions from power plants, and increases U.S. energy security and reliability. EPA announced ENERGY STAR for New Homes in 1995 as part of its effort to promote energy efficient construction in the new homes market. EPA rolled out its existing homes effort in 2000 to promote cost-effective upgrades to the existing homes market. These two efforts promote home envelope improvements such as the proper installation of adequate insulation, and installation of energy efficient windows, lights, and appliances. Currently, partners to these two ENERGY STAR efforts are not required to report information to EPA. Information received to date has been submitted voluntarily to EPA and is not of a confidential nature. EPA believes that industry feedback is essential for EPA to ensure that ENERGY STAR meets partners' expectations in participating in a voluntary program promoting energy efficiency, and EPA's expectations for educating the public about energy efficiency and its impact on air pollution. EPA has developed this ICR to obtain authorization to collect information from the public, including businesses, for the following activities:

ENERGY STAR Partnership: An organization interested in joining ENERGY STAR as a partner is asked to submit a partnership agreement establishing their commitment to ENERGY STAR. Partners agree to undertake efforts such as educating staff and the public about their partnership with ENERGY STAR, developing and implementing a plan to improve energy performance in homes, and highlighting achievements utilizing the ENERGY STAR brand. Partners are encouraged to undertake related activities for added benefit and/or public recognition, such as committing to build 100% ENERGY STAR qualified new homes. Information collected is used to inform the public of organizations that build and promote ENERGY STAR qualified homes and make energy-efficient improvements to existing homes. Partnership is voluntary and can be terminated at any time. EPA does not expect organizations to join the program unless they expect participation to be cost-effective and otherwise beneficial for them.

Outreach Partnership: Partners have the opportunity to participate in an outreach partnership with EPA to develop public education campaigns featuring the benefits of ENERGY STAR qualified homes. Partners interested in participating in the outreach program are asked to submit a form detailing their level of participation.

ENERGY STAR Awards: Each year partners are eligible for an ENERGY STAR award, which recognizes organizations demonstrating outstanding support in promoting ENERGY STAR. This award program provides partners public recognition and market differentiation. An application form is submitted to EPA by partners interested in being eligible for an award.

Quarterly Reporting: Partners are asked to submit information each calendar quarter to assist EPA in tracking and measuring progress in building and promoting ENERGY STAR qualified homes. This includes submitting quarterly updates on partners' level of activity in qualifying new homes for the ENERGY STAR label and activity in improving the energy efficiency of existing homes. This information is used by EPA to determine ENERGY STAR's impact on the market for energy efficient new and existing homes, its impact on residential energy demand and air pollution, and to recognize partners for promoting energy efficient homes.

Evaluation: Partners and other program participants are asked to periodically submit information to EPA as needed to assist in evaluating ENERGY STAR's effectiveness in helping organizations promote energy efficiency in homes, to assess partners' level of interest and ability in promoting ENERGY STAR in the residential sector, and to determine the impact that ENERGY STAR has on the supply and demand for energy-efficient homes and home improvement products and services. This information is used by EPA to make changes to ENERGY STAR's outreach efforts to better serve the needs of partners.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Home Builders, Home Energy Verification Organizations, Lenders, Regional Energy Efficiency Programs/Utilities, Home Improvement Contractors, Product Retailers, Manufactured Home Retailers, Realtors, Architects.

Estimated Number of Respondents: 1,441.

Frequency of Response: On occasion, quarterly, annually.

Estimated Total Annual Hour Burden: 175,449.

Estimated Total Annual Cost: $9,133,098, which includes $8,320 annualized capital/startup costs, $120,358 annual O&M costs, and $9,004,420 annual labor costs.

Dated: May 23, 2006.
Oscar Morales,
Director, Collection Strategies Division.

[FR Doc. E6-8614 Filed 6-1-06; 8:45 am]

BILLING CODE 6560-50-P